DEPARTMENT OF COMMERCE

National Oceanic and Atmospheric Administration

RIN 0648-XB135

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Management Team (HMSMT) will hold a work session which is open to the public.

DATES: The meeting will be held Monday, April 30th through Wednesday, May 2, 2012. The HMSMT work session will begin at 1 p.m. on Monday, April 30 and at 8:30 a.m. on the following days, and continue until business is completed on each day.

ADDRESSES: The work sessions will be held at Large Conference Room, Pacific Fishery Management Council Office, 7700 NE Ambassador Place, Suite 101, Portland, OR 97220-1384.

FOR FURTHER INFORMATION CONTACT: Dr. Kit Dahl, Pacific Fishery Management Council; telephone: (503) 820-2280.

SUPPLEMENTARY INFORMATION: The HMSMT will discuss further development of information to support Council recommendations on an international management framework for North Pacific albacore tuna. The HMSMT presented information to the Council at its March 2012 meeting and the Council requested additional information to support discussion at its June 21-26, 2012, meeting in San Mateo, CA. The HMSMST may also discuss work planning and future assignments.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Authority: 16 U.S.C. 1801 et seq.

Dated: April 9, 2012.
Tracey L. Thompson,
Acting Director, Office of Sustainable Fisheries, National Marine Fisheries Service.

[FR Doc. 2012-8805 Filed 4-11-12; 8:45 am]

BILLING CODE 3510-22-P